DEPARTMENT OF LABOR

Employment and Training Administration

Investigation Regarding Certifications of Eligibility To Apply for NAFTA Transitional Adjustment Assistance

Petition for transitional adjustment assistance under the North American Free Trade Agreement-Transitional Adjustment Assistance Implementation Act (Pub. L. 103-182), hereinafter called (NAFTA-TAA), have been filed with State Governors under section 250(b)(1) of Subchapter D, Chapter 2, Title II, of the Trade Act of 1974, as amended, are identified in the Appendix to this Notice. Upon notice from a Governor that NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than June 4, 2001.

Also, interested persons are invited to submit written comments regarding the subject matter of the petitions to the Director of DTAA at the address shown below not later than June 4, 2001.

Petitions filed with the Governors are available for inspection at the Office of the Director, DTAA, ETA, DOL, Room C-5311, 200 Constitution Avenue, NW., Washington, DC 20210.

Signed at Washington, DC this 10th day of May, 2001.
Edward A. Tomchick,
Director, Division of Trade Adjustment Assistance.

Appendix

Subject Firm | Location | Date Received at Governor's Office | Petition No. | Articles Produced
Texler (Co.) | Hacedonia, OH | 05/04/2001 | NAFTA-4, 825 | Tooling and plastic components
Krupp Hoesch Suspensions (Co.) | Hamilton, OH | 05/02/2000 | NAFTA-4, 826 | Front and rear suspension springs
MK Acquisition (Wkrs) | Orrville, OR | 05/04/2001 | NAFTA-4, 827 | Car and truck components
Hoskins Manufacturing (Co.) | Charlevoix, MI | 05/01/2001 | NAFTA-4, 828 | Spark plug alloys
SGL Carbon (USWA) | Niagara Falls, NY | 04/27/2001 | NAFTA-4, 829 | Carbon graphite
Centis (Wkrs) | Brea, CA | 05/01/2001 | NAFTA-4, 830 | Page protector
Avery Dennison—Spartan International (Wkrs) | Holt, MI | 03/06/2001 | NAFTA-4, 831 | Spiral tubes for tape
ECK Industries (GMP) | St. Manitowoc, WI | 04/20/2001 | NAFTA-4, 832 | Aluminum castings
Crest Uniform—Aramark (Wkrs) | New York City, NY | 04/27/2001 | NAFTA-4, 833 | Medical and fast food uniforms
Admiral Marine Construction (Co.) | Port Angeles, WA | 05/02/2001 | NAFTA-4, 834 | Yacht components
E.I. DuPont (Co.) | Camden, SC | 05/02/2001 | NAFTA-4, 835 | Nylon synthetic fiber
Honeywell (Co.) | Torrance, CA | 05/03/2001 | NAFTA-4, 836 | Aerospace heat exchangers and components
FCI Electronics (Wkrs) | Hanover, PA | 05/03/2001 | NAFTA-4, 837 | Electrical cennectors
Republic Paperboard (PACE) | Commerce City, CO | 05/04/2001 | NAFTA-4, 838 | Wallboard paper
Emerson (Co.) | St. Louis, MO | 05/04/2001 | NAFTA-4, 839 | Heating, ventilation & cooling products
OSRAM Sylvania Products (AFGW) | Wellsboro, PA | 05/04/2001 | NAFTA-4, 840 | Lamps and light bulbs
Allied Textiles USA (Co.) | Charlotte, NC | 05/04/2001 | NAFTA-4, 841 | Texile recycling
Technimark (Wkrs) | Randleman, NC | 05/07/2001 | NAFTA-4, 842 | Plastic injection molding
D and J Apparel (Co.) | Albemarle, NC | 05/07/2001 | NAFTA-4, 843 | Sweatshirts, sweatpants and t-shirts
Spectrum Control (Wkrs) | Fairview, PA | 05/04/2001 | NAFTA-4, 844 | Filter plates, filtered terminal blocks
M. Fine and Sons (UNITE) | Middlesboro, KY | 05/07/2001 | NAFTA-4, 845 | Jeans
Lear Corporation (UNITE) | Lewistown, PA | 05/07/2001 | NAFTA-4, 846 | Automotive carpeting
Oglevee LTD (Co.) | Fredonia, PA | 05/07/2001 | NAFTA-4, 847 | Geranium impatient cuttings
Newport Steel Corporation (Co.) | Newport, KY | 04/12/2001 | NAFTA-4, 848 | Steel
Thomas and Betts (Wkrs) | Horseheads, NY | 05/07/2001 | NAFTA-4, 849 | Cable connections for TVs
APV Crepaco (Wkrs) | Lake Mills, WI | 05/08/2001 | NAFTA-4, 850 | Food processing
United Plastics Group (Wkrs) | Anaheim, CA | 05/07/2001 | NAFTA-4, 851 | Plastic injection molded parts
Pilkington Libbey Owens Ford (Wkrs) | Sherman, TX | 05/08/2001 | NAFTA-4, 852 | Auto glass

[FR Doc. 01-13002 Filed 5-22-01; 8:45 am]

BILLING CODE 4510-30-M